DEPARTMENT OF THE TREASURY

Submission for OMB Review; Comment Request

May 22, 2012.

The Department of the Treasury will submit the following information collection request to the Office of Management and Budget (OMB) for review and clearance in accordance with the Paperwork Reduction Act of 1995, Public Law 104-13, on or after the date of publication of this notice.

DATES: Comments should be received on or before June 25, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or on-line at www.PRAComment.gov.

FOR FURTHER INFORMATION CONTACT: Copies of the submission(s) may be obtained by calling (202) 927-5331, email at PRA@treasury.gov, or the entire information collection request maybe found at www.reginfo.gov.

Internal Revenue Service (IRS)

OMB Number: 1545-1191.

Type of Review: Extension without change of a currently approved collection.

Title: INTL-868-89 (TD 8353) Information with Respect to Certain Foreign-Owned Corporations.

Abstract: The regulations require record maintenance, annual information filing, and the authorization of the U.S. corporation to act as an agent for IRS summons purposes. These requirements allow IRS International examiners to better audit the returns of U.S. corporations engaged in cross-border transactions with a related party.

Affected Public: Private Sector: Businesses or other for-profits.

Estimated Total Burden Hours: 630,000.

OMB Number: 1545-1428.

Type of Review: Extension without change of a currently approved collection.

Title: Elections Under Section 338 for Corporations Making Qualified Stock Purchases.

Form: 8023.

Abstract: Form 8023 is used by corporations that acquire the stock of another corporation to elect to treat the purchase of stock as a purchase of the other corporation's assets. The IRS uses Form 8023 to determine if the purchasing corporation reports the sale of its assets on its income tax return and to determine if the purchasing corporation has properly made the election.

Affected Public: Private Sector: Businesses or other for-profits.

Estimated Total Burden Hours: 2,559.

OMB Number: 1545-1960.

Type of Review: Extension without change of a currently approved collection.

Title: Information Referral.

Form: 3949-A.

Abstract: This form is voluntary and the information requested helps us determine if there has been a violation of Income Tax Law. We need the taxpayer identification numbers, Social Security Number (SSN) or Employer Identification Number (EIN), in order to fully process. Failure to provide this information may lead to suspension of processing this form.

Affected Public: Individuals or Households.

Estimated Total Burden Hours: 53,750.

OMB Number: 1545-2146.

Type of Review: Extension without change of a currently approved collection.

Title: REG-120476-07 (TD 9457 (Final)), Employer Comparable Contributions to Health Savings Accounts and Requirement of a Return for Filing of the Excise Taxes under Sections 4980B, 4980D, 4980E and 4980G.

Abstract: The information results from the requirement to file a return for the payment of the excise taxes under section 4980B, 4980D, 4980E, and 4980G of the code.

Affected Public: Private Sector: Businesses or other for-profits.

Estimated Total Burden Hours: 2,500.

Dawn D. Wolfgang,
Treasury PRA Clearance Officer.

[FR Doc. 2012-12729 Filed 5-24-12; 8:45 am]

BILLING CODE 4830-01-P